DEPARTMENT OF TRANSPORTATION

Federal Aviation Administration

Notice of Intent To Rule on Application To Impose and Use the Revenue From a Passenger Facility Charge (PFC) at Huntsville International Airport, Huntsville, AL

AGENCY: Federal Aviation Administration (FAA), DOT.

ACTION: Notice of intent to rule on application.

SUMMARY: The FAA proposes to rule and invites public comment on the application to impose and use the revenue from a PFC at Huntsville International Airport under the provisions of the Aviation Safety and Capacity Expansion Act of 1990 (Title IX of the Omnibus Budget Reconciliation Act of 1990) (Pub. L. 101-508) and Part 158 of the Federal Aviation Regulations (14 CFR Part 158).

DATES: Comments must be received on or before October 28, 2002.

ADDRESSES: Comments on this application may be mailed or delivered in triplicate to the FAA at the following address:

Jackson Airports District Office, 100 West Cross Street, Suite B, Jackson, MS 39208-2307.

In addition, one copy of any comments submitted to the FAA must be mailed or delivered to Mr. Luther H. Roberts, Jr., AAE, Deputy Director of the Huntsville—Madison County Airport Authority, at the following address: 1000 Glenn Hearn Boulevard, Box 20008, Huntsville, AL 35834.

Air carriers and foreign air carriers may submit copies of written comments previously provided to the Huntsville-Madison County Airport Authority under § 158.23 of Part 158.

FOR FURTHER INFORMATION CONTACT: Keafur Grimes, Program Manager, Jackson Airport District Office, 100 West Cross Street, Jackson, MS 29308-2307, (601) 664-9886. The application may be reviewed in person at this same location.

SUPPLEMENTARY INFORMATION: The FAA proposes to rule and invites public comment on the application to impose and use the revenue from a PFC at Huntsville International under the provisions of the Aviation Safety and Capacity Expansion Act of 1990 (Title IX of the Omnibus Budget Reconciliation Act of 1990) (Pub. L. 101-508) and Part 158 of the Federal Aviation Regulations (14 CFR Part 158).

On July 8, 2002, the FAA determined that the application to impose and use the revenue from a PFC submitted by Huntsville-Madison County Airport Authority was substantially complete within the requirements of § 158.25 of Part 158. The FAA will approve or disapprove the application, in whole or in part, not later than October 24, 2002.

The following is a brief overview of the application.

PFC Application No.: 02-12-C-00-HSV.

Level of the proposed PFC: $4.50.

Proposed charge effective date: November 1, 2002.

Proposed charge expiration date: November 1, 2004.

Total estimated net PFC revenue: $2,649,591.

Brief description of proposed project(s): Extend runway 18R/36L 4,600 feet; Acquire Noise Lane (101.7 acres); Acquire security Vehicle.

Class or classes of air carriers that the public agency has requested not be required to collect PFCs: Any Air Taxi/Commercial Operator (ATCO), Certified Air Carriers (CAC) and Certified Route Air Carriers (CRAC) have fewer than 500 annual emplanements.

Any person may inspect the application in person at the FAA office listed above under FOR FURTHER INFORMATION CONTACT.

in addition, any person may, upon request, inspect the application, notice and other documents germane to the application in person at the Huntsville-Madison county Airport Authority

Issued in Jackson, MS on September 19, 2002.
Wayne Atkinson,
Manager, Jackson Airports District Office, Southern Region.

[FR Doc. 02-24451 Filed 9-25-02; 8:45 am]

BILLING CODE 4910-13-M